DEPARTMENT OF JUSTICE

Antitrust Division

Notice Pursuant to the National Cooperative Research and Production Act of 1993—the Nanoparticle Flow Processing Consortium

Notice is hereby given that, on July 16, 2007, pursuant to Section 6(a) of the National Cooperative Research and Production Act of 1993, 15 U.S.C. 4301 et seq. (“the Act”), Nanoparticle Flow Processing Consortium has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: 3M Company, St. Paul, MN; The Proctor & Gamble Company, Cincinnati, OH; Corning Incorporated, Corning, NY; BASF Aktiengesellschaft, Ludwigshafen, Germany, and Imperial Chemical Industries PLC, London, United Kingdom. The general area of Nanoparticle Flow Processing Consortium's planned activity is to: (1) Develop, test, and validate computer-simulation technologies of near-term application that can improve the quality and reduce the cost of nanoparticle suspension/dispersion manufacture (including suspension stability and processibility); (2) transfer the technology developed under the Research and Development Program in a manner that offers the Consortium members opportunities for commercial advantage; and (3) develop methodologies and aptitude for modeling and simulation of multiscale phenomena intrinsic to the stability and dynamics of dense, nanoparticle suspensions. This development will be synergistic and applicable to many U.S. Department of Energy campaigns for simulation (viz. C6, ASC, and other science and technology initiatives like those underpinning MESA).

J. Robert Kramer II,
Director of Operations, Antitrust Division.

[FR Doc. 07-4166 Filed 8-24-07; 8:45 am]

BILLING CODE 4410-11-M